DEPARTMENT OF DEFENSE

Defense Acquisition Regulations System

48 CFR Chapter 2

[Docket DARS-2019-0043]

Defense Federal Acquisition Regulation Supplement: Public Meetings on DFARS Cases Regarding Technical Data Rights

AGENCY: Defense Acquisition Regulations System, Department of Defense (DoD).

ACTION: Rescheduling of public meetings.

SUMMARY: DoD is rescheduling public meetings to obtain views of experts and interested parties in Government and the private sector regarding amending the Defense Federal Acquisition Regulation Supplement (DFARS) to implement statutory amendments and revise policies and procedures for acquisition of technical data and computer software, and associated license rights.

DATES:

Public Meeting Dates: The public meetings previously scheduled for September 6 and 16, 2019, are rescheduled for the following dates:

• November 15, 2019, from 10:00 a.m. to 1:00 p.m., Eastern time.

• November 21, 2019, from 1:30 p.m. to 4:30 p.m., Eastern time.

The public meetings will end at the stated times, or when the discussion ends, whichever comes first.

Registration Dates: Registration to attend the public meetings must be received no later than close of business on the following dates:

• November 8, 2019, for the meeting on November 15th.

• November 14, 2019, for the meeting on November 21st.

Information on how to register for the public meetings may be found in the SUPPLEMENTARY INFORMATION section of this document.

ADDRESSES: The public meeting scheduled for November 15, 2019, will be held in the Pentagon Library and Conference Center (PLCC), Conference Room B6, 1155 Defense Pentagon, Washington, DC 20301. Conference Room B6 is located on the lower level of the PLCC. The public meeting scheduled for November 21, 2019, will be held in the Mark Center Auditorium, 4800 Mark Center Drive, Alexandria, VA 22350-3603. The Mark Center Auditorium is located on level B-1 of the building.

FOR FURTHER INFORMATION CONTACT: Ms. Jennifer D. Johnson, telephone 571-372-6100.

SUPPLEMENTARY INFORMATION: DoD is hosting public meetings to obtain the views of experts and interested parties in Government and the private sector regarding amending the DFARS to implement statutory amendments and revise policies and procedures for acquisition of technical data and computer software, and associated license rights. DoD also seeks to obtain information on the potential increase or decrease in public costs or savings that would result from such amendments to the DFARS. In addition to the statutory changes, DoD is considering recommendations related to that statutory subject matter that were provided in the November 13, 2018, Final Report of the Government-Industry Advisory Panel on Technical Data Rights (Section 813 Panel), established pursuant to section 813 of the National Defense Authorization Act (NDAA) for Fiscal Year (FY) 2016.

To facilitate discussion at the public meetings, DoD anticipates publication of advance notices of proposed rulemaking, which will include initial drafts of the DFARS amendments, prior to the public meetings. This approach is based in part on a recommendation of the Section 813 Panel to invite industry to participate in the drafting of rules concerning technical data rights. For the two public meetings listed in the DATES section of this document, DoD anticipates discussion of the following DFARS cases:

• 2018-D069, Validation of Proprietary and Technical Data, which implements section 865 of the NDAA for FY 2019.

• 2018-D071, Negotiation of Price for Technical Data and Preference for Specially Negotiated Licenses, which implements section 835 of the NDAA for FY 2018 and section 867 of the NDAA for FY 2019.

After these two meetings, DoD anticipates scheduling and hosting additional public meetings, structured in the same manner and for the same overall objective, to address the following DFARS cases:

• 2018-D070, Continuation of Technical Data Rights during Challenges, which implements section 866 of the NDAA for FY 2018.

• 2018-D018, Noncommercial Computer Software, which implements section 871 of the NDAA for FY 2018.

• A new case that will implement section 809 of the NDAA for FY 2017.

• A new case that will implement section 815 of the NDAA for FY 2012, as amended by section 809 of the NDAA for FY 2017.

Registration: To ensure adequate room accommodations and to facilitate security screening and entry to the PLCC and the Mark Center, individuals wishing to attend the public meeting must register by close of business on the dates listed in the DATES section of this document, by sending the following information via email to osd.dfars@mail.mil:

(1) Full name.

(2) Valid email address.

(3) Valid telephone number.

(4) Company or organization name.

(5) Whether the individual is a U.S. citizen.

(6) The date(s) of the public meeting(s) the individual wishes to attend.

(7) Whether the individual intends to make a presentation, and, if so, the individual's title.

Individual who registered for the prior meetings date(s), will need to re-register for the public meeting date they would like to attend.

Building Entry: Upon receipt of an email requesting registration, the Defense Acquisition Regulations System will provide notification to the Pentagon Force Protection Agency (PFPA) that the individual is requesting approval for entry to the PLCC or the Mark Center on the date(s) provided. PFPA will send additional instructions to the email address provided in the request for registration. The registrant must follow the instructions in the PFPA email in order to be approved for entry to the PLCC or the Mark Center.

One valid government-issued photo identification card (i.e., driver's license or passport) will be required in order to enter the building.

Attendees are encouraged to arrive at least 30 minutes prior to the start of the meeting to accommodate security procedures.

Public parking is not available at the PLCC or the Mark Center.

Presentations: If you wish to make a presentation, please submit an electronic copy of your presentation to osd.dfars@mail.mil no later than the registration date for the specific meeting listed in the DATES section of this document. Each presentation should be in PowerPoint to facilitate projection during the public meeting and should include the presenter's name, organization affiliation, telephone number, and email address on the cover page. Please submit presentations only and cite “Public Meeting, DFARS Technical Data Rights Cases” in all correspondence related to the public meeting. There will be no transcription at the meeting. The submitted presentations will be the only record of the public meeting and will be posted to the following website at the conclusion of the public meeting: https://www.acq.osd.mil/dpap/dars/technical_data_rights.html.

Special accommodations: The public meeting is physically accessible to persons with disabilities. Requests for reasonable accommodations, sign language interpretation, or other auxiliary aids should be directed to Valencia Johnson, telephone 571-672-6099, by no later than the registration date for the specific meeting listed in the DATES section of this document.

The TTY number for further information is: 1-800-877-8339. When the operator answers the call, let him or her know the agency is the Department of Defense and the point of contact is Valencia Johnson at 571-672-6099.

Jennifer Lee Hawes,
Regulatory Control Officer, Defense Acquisition Regulations System.

[FR Doc. 2019-17674 Filed 8-15-19; 8:45 am]

BILLING CODE 5001-06-P